DEPARTMENT OF JUSTICE

Notice of Lodging of Proposed Consent Decree Amendment Under the Clean Air Act; the Clean Water Act; the Resource Conservation and Recovery Act; the Missouri Air Conservation Law; the Missouri Clean Water Law and the Missouri Hazardous Waste Management Law

On March 14, 2013, the Department of Justice and the State of Missouri lodged with the United States District Court for the Eastern District of Missouri a consent decree in the lawsuit entitled United States v. Teva Pharmaceuticals USA, Inc. 2:13-cv-00027-HEA.

The lawsuit is a civil action brought pursuant to the Clean Air Act, the Missouri Air Conservation Law, the Clean Water Act, the Missouri Clean Water Law, the Resource Conservation and Recovery Act, and the Missouri Hazardous Waste Management Law. The complaint seeks civil penalties and injunctive relief against Teva Pharmaceuticals USA, Inc., for violations of the requirements applicable to hazardous air pollutants and hazardous waste, and of requirements applicable to Teva's discharge of pollutants to a city-owned wastewater treatment plant. The violations occurred at a chemical manufacturing facility located in Mexico, Missouri.

The consent decree requires Teva to pay a civil penalty of $2,250,000 and to implement a series of projects and changes at its Mexico Facility to bring the facility into compliance and mitigate its past violations. Among other things, Teva will be required to develop a pretreatment plan; conduct vacuum stripping of wastewater streams to remove methylene chloride; install an automated diffused aeration rate system in its wastewater treatment plant; implement an enhanced leak detection program; and establish an Environmental Management System that calls for environmental audits of its facility.

This publication opens a period for public comment on the Consent Decree. You may submit comments to the Assistant Attorney General, Environment and Natural Resources Division. The comments should refer to United States v. Teva Pharmaceuticals USA, Inc., D.J. Ref. No. 90-5-2-1-09638. Comments must be submitted no later than thirty (30) days after the publication date of this notice. Forward comments either by email or U.S. mail:

To submit comments: | Send them to:
By e-mail | pubcomment-ees.enrd@usdoj.gov.
By U.S. mail | Assistant Attorney General, U.S. DOJ—ENRD, P.O. Box 7611, Washington, DC 20044-7611.

During the public comment period, Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $20.25 (25 cents per page reproduction cost) payable to the United States Treasury.

Robert M. Maher, Jr.,
Assistant Section Chief, Environmental Enforcement Section, Environment and Natural Resources Division.

[FR Doc. 2013-06360 Filed 3-19-13; 8:45 am]

BILLING CODE 4410-15-P